DEPARTMENT OF TRANSPORTATION

Federal Aviation Administration

14 CFR Part 71

[Docket No. FAA-2023-0505; Airspace Docket No. 23-ASO-06]

RIN 2120-AA66

Amendment of Class D and Class E Airspace; Ormond Beach, FL

AGENCY: Federal Aviation Administration (FAA), DOT.

ACTION: Final rule.

SUMMARY: This action amends the Class D airspace, Class E airspace designated as an extension to a Class D surface area in Ormond Beach, FL, and Class E airspace extending upward from 700 feet above the surface in Daytona Beach, FL, as the result of a biennial airspace evaluation. This action extends the Class E airspace from 700 feet above the surface surrounding Spruce Creek Airport. The FAA also updates terminology in the Class D and Class E airspace designated as an extension to Class D for Ormond Beach, FL, in the legal descriptions, as well as the geographical coordinates for Daytona Beach International Airport in the legal description for the Class E airspace extending upward from 700 feet above the surface in Daytona Beach, FL.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours a day, 365 days a year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jennifer Ledford, Operations Support Group, Office of Policy, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as controlled airspace is necessary for the safety and management of instrument flight rules (IFR) operations in the area.

History

The FAA published a notice of proposed rulemaking for Docket No. FAA 2023-0505 in the Federal Register (88 FR 22387; April 13, 2023), amending Class D airspace, Class E airspace designated as an extension to a Class D surface area in Ormond Beach, FL, and Class E airspace extending upward from 700 feet above the surface in Daytona Beach, FL, as the result of a biennial airspace evaluation. Interested parties were invited to participate in this rulemaking effort by submitting written comments on the proposal to the FAA. No comments were received.

Incorporation by Reference

Class D and E airspace designations are published in paragraphs 5000, 6002, and 6005 of FAA Order JO 7400.11, Airspace Designations and Reporting Points, which is incorporated by reference in 14 CFR 71.1 annually. This document amends the current version of that order, FAA Order JO 7400.11G, dated August 19, 2022, and effective September 15, 2022. FAA Order JO 7400.11G is publicly available as listed in the ADDRESSES section of this document. These amendments will be published in the next FAA Order JO 7400.11 update.

FAA Order JO 7400.11G lists Class A, B, C, D, and E airspace areas, air traffic service routes, and reporting points.

The Rule

This action amends Class E airspace extending upward from 700 feet above the surface of Spruce Creek Airport by increasing the radius to 6.8 miles (previously 6.4 miles). This action also amends Class E airspace extending upward from 700 feet above the surface of Daytona Beach International Airport by updating the geographical coordinates to coincide with the FAA's database. In addition, this action replaces the outdated terms Airport/Facility Directory with the term Chart Supplement and Notice to Airmen with the term Notice to Air Missions in the Ormond Beach Class D airspace and Class E airspace designated as an extension to Class D in the legal descriptions.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ASO FL D Ormond Beach, FL

Ormond Beach Municipal Airport, FL

(Lat 29°18′04″ N, long 81°06′50″ W)

That airspace extending upward from the surface, to but not including 1,200 feet MSL within a 3.2- mile radius of Ormond Beach Municipal Airport, excluding that airspace within the Daytona Beach, FL, Class C airspace area. This Class D airspace area is effective during the specific days and times established in advance by a Notice to Air Missions. The effective days and times will be continuously published in the Chart Supplement.

* * * * *

Paragraph 6004 Class E Airspace Designated as an Extension to Class D Surface Area.

* * * * *

ASO FL E4 Ormond Beach, FL

Ormond Beach Municipal Airport, FL

(Lat 29°18′04″ N, long. 81°06′50″ W)

Ormond Beach VORTAC

(Lat 29°18′12″ N, long 81°06′46″ W)

That airspace extending upward from the surface within 2.4 miles on each side of the Ormond Beach VORTAC 342° radial, extending from the 3.2-mile radius to 6.9 miles northwest of the VORTAC. This Class E4 airspace area is effective during the specific days and times established in advance by a Notice to Air Missions. The effective days and times will thereafter be continuously published in the Chart Supplement.

* * * * *

Paragraph 6005 Class E Airspace Areas Extending Upward From 700 Feet or More Above the Surface of the Earth.

* * * * *

ASO FL E5 Daytona Beach, FL

Daytona Beach International Airport, FL

(Lat 29°10′48″ N, long 81°03′29″ W)

Spruce Creek Airport

(Lat 29°04′49″ N, long 81°02′48″ W)

Ormond Beach Municipal Airport

(Lat 29°18′04″ N, long 81°06′50″ W)

That airspace extends upward from 700 feet or more above the earth's surface within a 10-mile radius of Daytona Beach International Airport, a 6.8-mile radius of Spruce Creek Airport, and a 7.3-mile radius of Ormond Beach Municipal Airport.

* * * * *

Issued in College Park, GA, on June 12, 2023.
Andreese C. Davis,
Manager, Airspace & Procedures Team South, Eastern Service Center, Air Traffic Organization.

[FR Doc. 2023-13150 Filed 6-21-23; 8:45 am]

BILLING CODE 4910-13-P